DEPARTMENT OF DEFENSE

Office of the Secretary

Board of Regents, Uniformed Services University of the Health Sciences; Notice of Federal Advisory Committee Meeting

AGENCY: Under Secretary of Defense for Personnel and Readiness (USD(P&R)), Department of Defense (DoD).

ACTION: Notice of Federal Advisory Committee meeting.

SUMMARY: The DoD is publishing this notice to announce that the following Federal Advisory Committee meeting of the Board of Regents (Board), Uniformed Services University of the Health Sciences (USU), will take place.

DATES: Tuesday, February 4, 2020, open to the public from 8:00 a.m. to 11:05 a.m. The closed session will follow from approximately 11:15 a.m. to 12:00 p.m.

ADDRESSES: Uniformed Services University of the Health Sciences, 4301 Jones Bridge Road, Bethesda, MD 20814.

FOR FURTHER INFORMATION CONTACT: Ms. Sarah Marshall, Designated Federal Officer (DFO), at (301) 295-3955 or sarah.marshall@usuhs.edu. Mailing address is 4301 Jones Bridge Road, Bethesda, MD 20814. Website: https://www.usuhs.edu/vpe/bor.

SUPPLEMENTARY INFORMATION: Due to circumstances beyond the control of the Department of Defense, the Board of Regents, Uniformed Services University of the Health Sciences was unable to provide public notification required by 41 CFR 102-3.150(a) concerning the meeting on February 4, 2020 of the Board of Regents, Uniformed Services University of the Health Sciences. Accordingly, the Advisory Committee Management Officer for the Department of Defense, pursuant to 41 CFR 102-3.150(b), waives the 15-calendar day notification requirement.

This meeting is being held under the provisions of the Federal Advisory Committee Act (FACA) (5 U.S.C., Appendix), the Government in the Sunshine Act (5 U.S.C. 552b), and 41 CFR 102-3.140 and 102-3.150.

Purpose of the Meeting: The purpose of the meeting is to provide advice and recommendations to the Secretary of Defense, through the USD(P&R), on academic and administrative matters critical to the full accreditation and successful operation of USU. These actions are necessary for USU to pursue its mission, which is to educate, train and comprehensively prepare uniformed services health professionals, officers, scientists, and leaders to support the Military and Public Health Systems, the National Security and National Defense Strategies of the United States, and the readiness of our Uniformed Services.

Agenda: The schedule includes recommendations for degree conferrals, faculty appointments and promotions, and faculty awards presented by the deans of USU's schools and colleges; a report by the USU President on recent actions affecting academic and operational aspects of USU; a report from the Assistant Secretary of Defense for Health Affairs about the Military Health System; a member report covering an academics summary (consisting of submissions from the School of Medicine, Graduate School of Nursing, Postgraduate Dental College, and College of Allied Health Sciences); a member report covering a finance and administration summary (consisting of submissions from the Senior Vice President Campus South, Senior Vice President Campus West, Armed Forces Radiobiology Research Institute, and Office of the Vice President for Research); and additional reports to the Board from the Office of Accreditation and Organizational Assessment, Office of the Registrar, and the Office of the Vice President for Finance and Administration. Reviews of administrative matters of general consent (e.g., minute's approval, degree conferrals, faculty appointments and promotions, award recommendations, etc.) electronically voted on since the previous Board meeting on November 5, 2019 due to suspense requirements will presented. A closed session will be held following the open session to discuss active investigations and personnel actions.

Meeting Accessibility: Pursuant to Federal statutes and regulations (5 U.S.C. Appendix, 5 U.S.C. 552b, and 41 CFR 102-3.140 through 102-3.165) and the availability of space, the meeting is open to the public from 8:00 a.m. to 11:05 a.m. Seating is on a first-come basis. Members of the public wishing to attend the meeting should contact Sarah Marshall no later than five business days prior to the meeting at the address and phone number noted in the FOR FURTHER INFORMATION CONTACT section. Pursuant to 5 U.S.C. 552b(c)(2, 5-7), the DoD has determined that the portion of the meeting from 11:15 a.m. to 12:00 p.m. shall be closed to the public. The USD(P&R), in consultation with the DoD Office of General Counsel, has determined in writing that this portion of the Board's meeting will be closed as the discussion will disclose sensitive personnel information, will include matters that relate solely to the internal personnel rules and practices of the agency, will involve allegations of a person having committed a crime or censuring an individual, and may disclose investigatory records compiled for law enforcement purposes.

Written Statements: Pursuant to section 10(a)(3) of the FACA and 41 CFR 102-3.140, the public or interested organizations may submit written comments to the Board about its approved agenda pertaining to this meeting or at any time regarding the Board's mission. Individuals submitting a written statement must submit their statement to the DFO at the address listed in the FOR FURTHER INFORMATION CONTACT section. Written statements that do not pertain to a scheduled meeting of the Board may be submitted at any time. If individual comments pertain to a specific topic being discussed at the planned meeting, then these statements must be received at least five calendar days prior to the meeting. Otherwise, the comments may not be provided to or considered by the Board until a later date. The DFO will compile all timely submissions with the Board's Chair and ensure such submissions are provided to Board Members before the meeting.

Dated: January 28, 2020.
Aaron T. Siegel,
Alternate OSD Federal Register Liaison Officer, Department of Defense.

[FR Doc. 2020-01830 Filed 1-30-20; 8:45 am]

BILLING CODE 5001-06-P